DEPARTMENT OF HEALTH AND HUMAN SERVICES

National Institutes of Health

Center for Scientific Review; Cancellation of Meeting

Notice is hereby given of the cancellation of the Center for Scientific Review Special Emphasis Panel, March 19, 2014, 11:00 a.m. to March 19, 2014, 4:00 p.m., National Institutes of Health, 6701 Rockledge Drive, Bethesda, MD 20892, which was published in the Federal Register on February 25, 2014, 79 FR 10543.

The meeting is cancelled due to the reassignment of applications.

Dated: February 26, 2014.
Michelle Trout,
Program Analyst, Office of Federal Advisory Committee Policy.

[FR Doc. 2014-04661 Filed 3-3-14; 8:45 am]

BILLING CODE 4140-01-P